DEPARTMENT OF LABOR

Employment and Training Administration

[TA-W-70,584]

T.B.C Timber, Inc., Libby, MT; Notice of Termination of Investigation

Pursuant to Section 223 of the Trade Act of 1974, as amended, an investigation was initiated on May 26, 2009 in response to a petition filed by a company official on behalf of workers of T.B.C. Timber, Inc., Libby, Montana.

The petitioning group of workers is covered by an active certification (TA-W-70,686) which expires on August 5, 2011. Consequently, further investigation in this case would serve no purpose, and the investigation under this petition has been terminated.

Signed at Washington, DC, this 12th day of August 2009.
Richard Church,
Certifying Officer, Division of Trade Adjustment Assistance.

[FR Doc. E9-20450 Filed 8-25-09; 8:45 am]

BILLING CODE P